DEPARTMENT OF HOMELAND SECURITY

Coast Guard

33 CFR Part 165

[Docket No. USCG-2022-0906]

Safety Zone; Sausalito Lighted Boat Parade Fireworks Display, Richardson Bay, Sausalito, CA

AGENCY: Coast Guard, DHS.

ACTION: Notification of enforcement of regulation.

SUMMARY: The Coast Guard will enforce the safety zone in the navigable waters of Richardson Bay, off Sausalito, CA, in support of the Sausalito Lighted Boat Parade Fireworks Display. This safety zone is necessary to protect personnel, vessels, and the marine environment from the dangers associated with pyrotechnics. During the enforcement period, unauthorized persons or vessels are prohibited from entering into, transiting through, or remaining in the safety zone, unless authorized by the designated Patrol Commander (PATCOM) or other federal, state, or local agencies on scene to assist the Coast Guard in enforcing the regulated area.

DATES: The regulation in 33 CFR 165.1191, will be enforced for the location in Table 1 to § 165.1191, Item number 30, from 11 a.m. through 8:35 p.m. on December 10, 2022.

FOR FURTHER INFORMATION CONTACT: If you have questions about this notification of enforcement, call or email MST1 Shannon Curtaz-Milian, Sector San Francisco Waterways Management, U.S. Coast Guard; telephone 415-399-3585, email SFWaterways@uscg.mil.

SUPPLEMENTARY INFORMATION: The Coast Guard will enforce the safety zone established in 33 CFR 165.1191, Table 1, Item number 30, for the Sausalito Lighted Boat Parade Fireworks on December 10, 2022. The Coast Guard will enforce a 100-foot safety zone around the fireworks barge during the loading, transit, and setup of the fireworks barge from the loading location to the display location and until the commencement of the fireworks display. From 11 a.m. until 2 p.m. on December 10, 2022, the fireworks barge will be loading pyrotechnics at Pier 50 in San Francisco, CA. The fireworks barge will remain at the loading location until its transit to the display location. From 6:30 p.m. to 7:30 p.m. on December 10, 2022 the loaded fireworks barge will transit from Pier 50 to the launch site near Sausalito Point in approximate position 37°51′11.88″ N, 122°28′25.67″ W (NAD 83), where it will remain until the conclusion of the fireworks display. Starting at 7:30 p.m. on December 10, 2022, 30 minutes prior to the commencement of the 5-minute fireworks display, the safety zone will encompass the navigable waters, from surface to bottom, surrounding the fireworks barge near Spinnaker Point in Sausalito, CA within a radius of 1,000 feet from approximate position 37°51′11.88″ N, 122°28′25.67″ W (NAD 83) for the Sausalito Lighted Boat Parade Fireworks Display as set forth in 33 CFR 165.1191, Table 1, Item number 30. The safety zone will be enforced through 8:35 p.m. on December 10, 2022.

In addition to this notification of enforcement in the Federal Register, the Coast Guard plans to provide notification of this enforcement period via the Local Notice to Mariners.

Under the provisions of 33 CFR 165.1191, unauthorized persons or vessels are prohibited from entering into, transiting through, or anchoring in the safety zone during all applicable effective dates and times, unless authorized to do so by the PATCOM or other Official Patrol defined as a federal, state, or local law enforcement agency on scene to assist the Coast Guard in enforcing the regulated area. Additionally, each person who receives notice of a lawful order or direction issued by the PATCOM or Official Patrol shall obey the order or direction. The PATCOM or Official Patrol may, upon request, allow the transit of commercial vessels through regulated areas when it is safe to do so.

If the Captain of the Port determines that the regulated area need not be enforced for the full duration stated in this notice, a Marine Information Broadcast, the Local Notice to Mariners, and/or actual notice may be used to grant general permission to enter the regulated area.

Dated: November 23, 2022.
Taylor Q. Lam,
Captain, U.S. Coast Guard, Captain of the Port San Francisco.

[FR Doc. 2022-26257 Filed 12-1-22; 8:45 am]

BILLING CODE 9110-04-P